DEPARTMENT OF TRANSPORTATION

National Highway Traffic Safety Administration

[Docket No. NHTSA 2001-10944; Notice 1]

Advanced Bus Industries, Receipt of Application for Decision of Inconsequential Noncompliance

Advanced Bus Industries, LLC, (ABI) of Marysville, Ohio, has determined that approximately 68 Mauck Special Vehicle (MSV) vehicles with tag axles, manufactured between May 31, 1995 and February 2, 2000, do not meet the requirements of paragraph S5.1 of Federal Motor Vehicle Safety Standard (FMVSS) No. 105, “Hydraulic and Electric Brake Systems.” Pursuant to 49 U.S.C. 30118(d) and 30120(h), ABI has petitioned for a determination that this noncompliance is inconsequential to motor vehicle safety and has filed an appropriate report pursuant to 49 CFR part 573, “Defect and Noncompliance Reports.”

This notice of receipt of an application is published under 49 U.S.C. 30118 and 30120 and does not represent any agency decision or other exercise of judgment concerning the merits of the application.

ABI is the original equipment manufacturer of the MSV vehicle. ABI manufactures the MSV vehicle as a complete bus, which is then purchased by city transit organizations, or as a shell, which is purchased by up-fitters that customize and sell it to a first purchaser.

The four-wheel independent suspension of the MSV vehicle is augmented by a tag axle with small wheels. The tag axle is manufactured by Dexter, has a maximum support capacity of 3,500 pounds, and is installed by ABI behind the MSV's two rear wheels. A supporting force of 1,500 pounds is provided by the tag axle via the air pressure inside the two rubber air springs installed between the tag axle and the MSV chassis.

Vehicle braking is provided by the hydraulic, caliper-disc service brakes on the four main wheels. The two small wheels of the tag axle are not fitted with brakes. The lack of brakes on the two small wheels of the tag axle does not satisfy FMVSS 105, which states that a vehicle must have service brakes at all wheels.

ABI argued that the noncompliance is inconsequential to motor vehicle safety because these vehicles exceed the current FMVSS No. 105 braking performance requirements. To support this claim ABI submitted, along with its petition for inconsequential non-compliance, a test report compiled in August 1999. The test facility, Radlinski & Associates, tested the MSV to the procedures specified in FMVSS No. 105 and a complete Certification Test Report was generated. The FMVSS No. 105 Certification Test Report indicates that the SMV exceeded all FMVSS No. 105 performance requirements.

Interested persons are invited to submit written data, views and arguments on the application described above. Comments should refer to the docket number and be submitted to: U.S. Department of Transportation, Docket Management, Room PL-401, 400 Seventh Street, SW., Washington, DC 20590. It is requested that two copies be submitted.

All comments received before the close of business on the closing date indicated below will be considered. The application and supporting materials, and all comments received after the closing date, will also be filed and will be considered to the extent possible. When the application is granted or denied, the notice will be published in the Federal Register pursuant to the authority indicated below.

Comment closing date: December 14, 2001.

(49 U.S.C. 30118, 301120; delegations of authority at 49 CFR 1.50 and 501.8)
Issued on: November 7, 2001.
Noble N. Bowie,
Acting Associate Administrator for Safety Performance Standards.

[FR Doc. 01-28493 Filed 11-13-01; 8:45 am]

BILLING CODE 4910-59-M